DEPARTMENT OF AGRICULTURE

Agricultural Marketing Service

7 CFR Part 1219

[FV-01-706 FR Correction]

Hass Avocado Promotion, Research and Information Order; Referendum Procedures; Correction

AGENCY: Agricultural Marketing Service, Agriculture.

ACTION: Final rule; correction.

SUMMARY: This document corrects a final rule that was published on February 19, 2002 [67 FR 7261] by publishing the correct Harmonized Tariff Schedule number for Hass avocados used to determine importer eligibility to vote in the referendum. The rule established referendum procedures to be used in connection with the Hass Avocado Promotion, Research, and Information Order.

EFFECTIVE DATE: March 25, 2002.

FOR FURTHER INFORMATION CONTACT: Julie A. Morin, Research and Promotion Branch, FV, AMS, USDA, Stop 0244, 1400 Independence Avenue, SW., Room 2535 South Building, Washington, DC 20250-0244; telephone (202) 720-9915; facsimile (202) 205-2800; or julie.morin@usda.gov.

SUPPLEMENTARY INFORMATION:

Background

The Department of Agriculture (Department) published a final rule in the Federal Register on February 19, 2002 [67 FR 7261], establishing referendum procedures for the referendum on the implementation of the Hass Avocado Promotion, Research, and Information Order [7 CFR Part 1219]. The proposed Order is authorized under the Hass Avocado Promotion, Research, and Information Act of 2000 [7 U.S.C. 7801-7813].

Need for Correction

As published, there was a typographical error in the final rule. In § 1219.101(b) the definition of eligible importer, the Harmonized Tariff Schedule number identifying Hass avocados is incorrect. Accordingly, this correction document contains the correct Hass avocado Harmonized Tariff Schedule number.

Correction

FR Doc. 02-3796, published on February 19, 2002 [67 FR 7261], is corrected as follows:

§ 1219.101 [Corrected]

1. On page 7264, in the second column, in the Definitions for Subpart B—Referendum Procedures, section number § 1219.101(b) is correctly revised to read as follows:

(b) Eligible importer means any person who imported Hass avocados that are identified by the number 0804.40.00.10 in the Harmonized Tariff Schedule of the United States for at least one year prior to the referendum. Importation occurs when Hass avocados originating outside of the United States are released from custody by the U.S. Customs Service and introduced into the stream of commerce in the United States. Included are persons who hold title to foreign-produced Hass avocados immediately upon release by the U.S. Customs Service, as well as any persons who act on behalf of others, as agents or brokers, to secure the release of Hass avocados from the U.S. Customs Service when such Hass avocados are entered or withdrawn for consumption in the United States.

Dated: March 19, 2002.
A.J. Yates,
Administrator, Agricultural Marketing Service.

[FR Doc. 02-7105 Filed 3-22-02; 8:45 am]

BILLING CODE 3410-02-P